FEDERAL ELECTION COMMISSION

Sunshine Act Meetings

Agency: Federal Election Commission.

Date and Time: Thursday, June 22, 2017 At 11:15 a.m.

Place: 999 E Street NW., Washington, DC (Ninth Floor).

Status: This meeting will be open to the public.

Items To Be Discussed

Draft Advisory Opinion 2017-01: American Urological Association

Draft Advisory Opinion 2017-03: American Association of Clinical Urologists, Inc./UROPAC

Draft Advisory Opinion 2017-04: Lancman for Congress

Audit Division Recommendation Memorandum on the American Financial Services Association PAC (AFSAPAC) (A15-11)

Discussion of Commission's Response to Alleged Foreign Interference in American Elections

Management and Administrative Matters: Individuals who plan to attend and require special assistance, such as sign language interpretation or other reasonable accommodations, should contact Dayna C. Brown, Secretary and Clerk, at (202) 694-1040, at least 72 hours prior to the meeting date.

Person to Contact for Information: Judith Ingram, Press Officer.

Telephone: (202) 694-1220.

Dayna C. Brown,
Secretary and Clerk of the Commission.

[FR Doc. 2017-12896 Filed 6-16-17; 11:15 am]

BILLING CODE 6715-01-P